OFFICE OF PERSONNEL MANAGEMENT

Excepted Service

AGENCY: Office of Personnel Management (OPM).

ACTION: Notice.

SUMMARY: This notice identifies Schedule A, B, and C appointing authorities applicable to a single agency that were established or revoked from February 1, 2021 to February 28, 2021.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule B Authorities to report during February 2021.

Schedule B

No Schedule B Authorities to report during February 2021.

Schedule C

The following Schedule C appointing authorities were approved during February 2021.

Agency name | Organization name | Position title | Authorization No. | Effective date
DEPARTMENT OF AGRICULTURE | Office of the Assistant Secretary for Congressional Relations | Legislative Analyst | DA210070 | 02/01/2021
| Agricultural Marketing Service | Senior Advisor for Fair and Competitive Markets | DA210086 | 02/12/2021
| Farm Service Agency | Senior Policy Advisor | DA210079 | 02/04/2021
| Foreign Agricultural Service | Policy Advisor | DA210089 | 02/23/2021
| Office of the Assistant Secretary for Administration | Senior Advisor for Data and Technology | DA210085 | 02/12/2021
| Rural Utilities Service | Senior Policy Advisor | DA210080 | 02/04/2021
DEPARTMENT OF COMMERCE | Immediate Office | Executive Assistant | DC210081 | 02/05/2021
|  | Senior Advisor (Upskilling and Broadband) | DC210076 | 02/10/2021
| Office of Advance, Scheduling and Protocol | Scheduler | DC210079 | 02/05/2021
| Office of Policy and Strategic Planning | Policy Advisor | DC210083 | 02/05/2021
|  | Deputy Director, Office of Policy and Strategic Planning | DC210086 | 02/10/2021
|  | Senior Advisor | DC210087 | 02/25/2021
| Office of the Deputy Secretary | Special Assistant | DC210080 | 02/05/2021
DEPARTMENT OF DEFENSE | Office of the Assistant Secretary of Defense (Legislative Affairs) | Special Assistant (2) | DD210191 DD210193 | 02/12/2021 02/12/2021
| Office of the Assistant to the Secretary of Defense (Public Affairs) | Deputy Press Secretary | DD210204 | 02/18/2021
|  | Director of Digital Media | DD210173 | 02/02/2021
|  | Research Assistant | DD210199 | 02/18/2021
|  | Speechwriter (2) | DD210175 DD210205 | 02/02/2021 02/25/2021
| Office of the Secretary of Defense | Deputy Director of Protocol | DD210194 | 02/12/2021
|  | Special Assistant (3) | DD210178 DD210186 DD210200 | 02/02/2021 02/12/2021 02/18/2021
| Office of the Under Secretary of Defense (Acquisition and Sustainment) | Special Assistant (4) | DD210170 DD210174 DD210189 DD210192 | 02/02/2021 02/02/2021 02/12/2021 02/12/2021
| Office of the Under Secretary of Defense (Personnel and Readiness) | Special Assistant | DD210177 | 02/02/2021
| Office of the Under Secretary of Defense (Policy) | Special Assistant (3) | DD210172 DD210180 DD210202 | 02/02/2021 02/02/2021 02/18/2021
DEPARTMENT OF THE AIR FORCE | Office of the General Counsel | Attorney Advisor/Special Assistant | DF210007 | 02/16/2021
| Office of the Secretary | Special Assistant | DF210008 | 02/16/2021
| Office of the Under Secretary | Special Assistant | DF210009 | 02/16/2021
DEPARTMENT OF THE ARMY | Office of the General Counsel | Attorney Advisor | DW210009 | 02/11/2021
| Office Assistant Secretary Army (Civil Works) | Special Assistant | DW210010 | 02/11/2021
| Office of the Secretary | Special Assistant | DW210011 | 02/11/2021
DEPARTMENT OF THE NAVY | Office of the Secretary of the Navy | Special Assistant | DN210016 | 02/05/2021
DEPARTMENT OF EDUCATION | Office of Communications and Outreach | Special Assistant Press Secretary Senior Director of Digital Strategy | DB210056 DB210061 DB210063 | 02/11/2021 02/11/2021 02/16/2021
| Office of Elementary and Secondary Education | Chief of Staff Special Assistant | DB210055 DB210066 | 02/04/2021 02/23/2021
| Office of Legislation and Congressional Affairs | Chief of Staff | DB210035 | 02/04/2021
| Office of Planning, Evaluation and Policy Development | Special Assistant Chief of Staff | DB210054 DB210058 | 02/04/2021 02/19/2021
| Office of Special Education and Rehabilitative Services | Special Assistant | DB210073 | 02/18/2021
| Office of the Secretary | Confidential Assistant (3) | DB210052 DB210070 DB210074 | 02/01/2021 02/18/2021 02/26/2021
|  | Deputy Chief of Staff (2) | DB210060 DB210072 | 02/12/2021 02/18/2021
|  | Deputy White House Liaison | DB210051 | 02/01/2021
|  | Director of Advance | DB210071 | 02/18/2021
| Office of the Under Secretary | Confidential Assistant | DB210059 | 02/11/2021
ENVIRONMENTAL PROTECTION AGENCY | Office of Public Affairs | Public Affairs Specialist Writer-Editor (Speechwriter) | EP210084 EP210074 | 02/10/2021 02/26/2021
| Office of Public Engagement and Environmental Education | Special Assistant | EP210077 | 02/25/2021
| Office of the Administrator | Advance Specialist | EP210076 | 02/04/2021
|  | Deputy Chief of Staff for Operations | EP210049 | 02/03/2021
|  | Deputy White House Liaison | EP210051 | 02/03/2021
|  | Director of Scheduling and Advance | EP210050 | 02/03/2021
|  | Special Assistant | EP210024 | 02/01/2021
|  | White House Liaison | EP210013 | 02/01/2021
| Office of the Assistant Administrator for Air and Radiation | Special Assistant | EP210072 | 02/04/2021
| Office of the Assistant Administrator for Chemical Safety and Pollution Prevention | Special Assistant | EP210073 | 02/04/2021
| Office of the Assistant Administrator for Land and Emergency Management | Special Assistant | EP210075 | 02/04/2021
| Office of the Assistant Administrator for Water | Special Assistant | EP210083 | 02/04/2021
| Office of the Associate Administrator for Congressional and Intergovernmental Relations | Deputy Associate Administrator for Intergovernmental Affairs | EP210014 | 02/01/2021
| Office of the Associate Administrator for Policy | Special Assistant | EP210070 | 02/04/2021
GENERAL SERVICES ADMINISTRATION | Office of Congressional and Intergovernmental Affairs | Policy Advisor (2) | GS210028 GS210030 | 02/01/2021 02/12/2021
| Office of the Administrator | Senior Advisor White House Liaison | GS210031 GS210032 | 02/12/2021 02/12/2021
DEPARTMENT OF HEALTH AND HUMAN SERVICES | Indian Health Service | Senior Advisor | DH210073 | 02/02/2021
| Office for Civil Rights | Senior Advisor | DH210125 | 02/17/2021
| Office of Global Affairs | Special Assistant | DH210076 | 02/02/2021
| Office of Intergovernmental and External Affairs | Confidential Assistant Senior Advisor | DH210106 DH210124 | 02/12/2021 02/17/2021
| Office of Refugee Resettlement/Office of the Director | Special Assistant Chief of Staff | DH210105 DH210112 | 02/12/2021 02/12/2021
| Office of the Assistant Secretary for Administration | Special Assistant | DH210097 | 02/05/2021
| Office of the Assistant Secretary for Health | Senior Advisor and Director of Scheduling and Advance Special Advisor | DH210114 DH210130 | 02/12/2021 02/17/2021
| Office of the Assistant Secretary for Legislation | Special Assistant | DH210108 | 02/12/2021
| Office of the Assistant Secretary for Preparedness and Response | Special Assistant COVID Response | DH210121 | 02/17/2021
| Office of the Assistant Secretary for Public Affairs | Press Assistant | DH210095 | 02/05/2021
|  | Press Secretary (2) | DH210096 DH210115 | 02/05/2021 02/12/2021
|  | National Press Secretary (COVID) | DH210116 | 02/12/2021
| Office of the National Coordinator for Health Information Technology | Special Assistant | DH210074 | 02/02/2021
| Office of the Secretary | Deputy Chief of Staff, COVID Response | DH210075 | 02/02/2021
|  | Deputy White House Liaison | DH210100 | 02/12/2021
|  | Executive Assistant and Briefing Book Coordinator | DH210102 | 02/12/2021
|  | Senior Advisor | DH210109 | 02/12/2021
|  | Special Assistant for Scheduling | DH210099 | 02/08/2021
|  | White House Liaison | DH210059 | 02/02/2021
DEPARTMENT OF HOMELAND SECURITY | Office for Civil Rights and Civil Liberties | Advisor | DM210170 | 02/26/2021
| Office of Legislative Affairs | Director of Legislative Affairs | DM210157 | 02/17/2021
| Office of Public Affairs | Communications Director | DM210173 | 02/26/2021
| United States Citizenship and Immigration Services | Counselor (Special Projects) | DM210172 | 02/16/2021
DEPARTMENT OF HOUSING AND URBAN DEVELOPMENT | Office of Fair Housing and Equal Opportunity | Special Assistant | DU210049 | 02/03/2021
DEPARTMENT OF THE INTERIOR | Office of the Assistant Secretary—Fish and Wildlife and Parks | Special Assistant, Fish and Wildlife and Parks | DI210098 | 02/12/2021
| Office of the Assistant Secretary—Land and Minerals Management | Special Assistant, Land and Minerals Management | DI210069 | 02/12/2021
| Office of the Assistant Secretary—Policy, Management and Budget | Special Assistant, Policy, Management and Budget | DI210094 | 02/13/2021
| Bureau of Land Management | Special Assistant, Bureau of Land Management | DI210091 | 02/13/2021
| Bureau of Ocean Energy Management | Advisor, Bureau of Ocean Energy Management | DI210086 | 02/12/2021
| Bureau of Reclamation | Special Assistant | DI210093 | 02/13/2021
| National Park Service | Special Assistant, National Park Service | DI210092 | 02/13/2021
| Secretary's Immediate Office | Advance Representative | DI210096 | 02/13/2021
|  | Deputy Director of Congressional Affairs—House | DI210085 | 02/11/2021
|  | Deputy Director of Congressional Affairs—Senate | DI210068 | 02/11/2021
|  | Deputy White House Liaison | DI210095 | 02/13/2021
|  | Digital Director | DI210036 | 02/25/2021
|  | Director of Scheduling and Advance | DI210104 | 02/17/2021
|  | Director, Intergovernmental and External Affairs | DI210100 | 02/16/2021
|  | Press Secretary | DI210066 | 02/11/2021
|  | Special Assistant (3) | DI210048 DI210097 DI210063 | 02/26/2021 02/13/2021 02/26/2021
|  | White House Liaison | DI210065 | 02/12/2021
| United States Fish and Wildlife Service | Special Assistant, Fish and Wildlife Service | DI210070 | 02/16/2021
DEPARTMENT OF JUSTICE | Office of the Deputy Attorney General | Special Assistant | DJ210077 | 02/02/2021
DEPARTMENT OF LABOR | Office of the Secretary | Director of Scheduling and Advance | DL210071 | 02/04/2021
|  | Special Assistant (2) | DL210072 DL210073 | 02/04/2021 02/04/2021
| Office of Congressional and Intergovernmental Affairs | Legislative Officer | DL210054 | 02/08/2021
NATIONAL ENDOWMENT FOR THE HUMANITIES | National Endowment for the Humanities | Chief of Staff | NH210002 | 02/08/2021
|  | White House Liaison and Chairman Strategic Scheduler | NH210003 | 02/08/2021
|  | Supervisory Public Affairs Specialist | NH210004 | 02/08/2021
OCCUPATIONAL SAFETY AND HEALTH REVIEW COMMISSION | Office of Commissioners | Counsel | SH210003 | 02/10/2021
OFFICE OF MANAGEMENT AND BUDGET | Office of the Director | Confidential Assistant | BO210056 | 02/01/2021
| Office of Communications | Deputy Associate Director for Communications | BO210022 | 02/02/2021
OFFICE OF PERSONNEL MANAGEMENT | Office of the Director | Special Assistant | PM210038 | 02/16/2021
|  | Press Secretary | PM210040 | 02/16/2021
|  | White House Liaison | PM210041 | 02/23/2021
SMALL BUSINESS ADMINISTRATION | Office of Communications and Public Liaison | Deputy Associate Administrator for Communication and Public Liaison | SB210017 | 02/08/2021
|  | Special Advisor | SB210009 | 02/04/2021
| Office of the Administrator | Confidential Assistant | SB210023 | 02/18/2021
SOCIAL SECURITY ADMINISTRATION | Office of the Commissioner | Senior Advisor | SZ210021 | 02/23/2021
DEPARTMENT OF THE TREASURY | Secretary of the Treasury | Deputy White House Liaison | DY210064 | 02/12/2021
DEPARTMENT OF VETERANS AFFAIRS | Office of the Secretary and Deputy | Special Assistant | DV210035 | 02/04/2021
| Office of the Assistant Secretary for Congressional and Legislative Affairs | Special Assistant | DV210034 | 02/05/2021

The were no Schedule C appointing authorities revoked during February 2021.

Authority: 5 U.S.C. 3301 and 3302; E.O. 10577, 3 CFR, 1954-1958 Comp., p. 218.

Office of Personnel Management.
Alexys Stanley,
Regulatory Affairs Analyst.

[FR Doc. 2021-08155 Filed 4-20-21; 8:45 am]

BILLING CODE 6325-39-P